DEPARTMENT OF THE INTERIOR

Bureau of Land Management

[LLWY920000. L57000000.FI0000. 14XL5017AR]

Notice of Proposed Reinstatement of Terminated Oil and Gas Lease WYW-160400, Wyoming

AGENCY: Bureau of Land Management, Interior.

ACTION: Notice.

SUMMARY: As provided under the Mineral Leasing Act of 1920, as amended, the Bureau of Land Management (BLM) received a petition for reinstatement of terminated competitive oil and gas lease WYW-160400 in Campbell County, Wyoming, from the lessee of record, Osborn Heirs Company LTD. The BLM has reviewed all applicable information and proposes to reinstate the lease subject to amended terms and conditions. The lessee filed the petition for reinstatement on time and has met all filing requirements. No leases affecting this land were issued before the petition was filed.

FOR FURTHER INFORMATION CONTACT: Chris Hite, Branch Chief for Fluid Minerals Adjudication, Bureau of Land Management, Wyoming State Office, 5353 Yellowstone Road, Cheyenne, Wyoming, 82009; phone 307-775-6176; email chite@blm.gov.

Persons who use a telecommunications device for the deaf may call the Federal Relay Service (FRS) at 1-800-877-8339 to contact Mr. Hite during normal business hours. The FRS is available 24 hours a day, seven days a week, to leave a message or question with the above individual. A reply will be sent during normal business hours.

SUPPLEMENTARY INFORMATION: Termination of a lease is automatic and statutorily imposed by Congress when rental fees are not paid in a timely manner. Reinstatement terms are also set by Congress. Competitive oil and gas lease WYW-160400, which covers 935.65 acres, was terminated under the law effective June 1, 2014, for failure to pay rental timely. The lessee of record filed a petition for its reinstatement on time and met all requirements for Class II reinstatements as provided in Sec. 31(d) and (e) of the Mineral Leasing Act of 1920 (30 U.S.C. 188). Reinstatement of this lease conforms to the terms and conditions of all applicable land use plans, including the 2015 Approved Resource Management Plan Amendments for the Rocky Mountain Region, and other applicable National Environmental Policy Act documents.

The BLM proposes to reinstate lease WYW-160400 effective June 1, 2014, subject to amended lease terms and conditions. The lessee has agreed to pay increased rentals, $10 per acre or fraction thereof per year, and royalty rates, 16⅔ percent, on the lease and to adhere to amended lease stipulations to protect sage-grouse habitat in conformance with current management decisions under the 2015 Approved Resource Management Plan Amendments for the Rocky Mountain Region. The lease will be reinstated 30 days after publication of this proposed reinstatement notice in the Federal Register.

Authority: 30 U.S.C. 188 (e)(4) and 43 CFR 3108.2-3 (b)(2)(v)

Chris Hite,
Chief, Branch of Fluid Minerals Adjudication.

[FR Doc. 2020-22496 Filed 10-9-20; 8:45 am]

BILLING CODE 4310-22-P